DEPARTMENT OF THE INTERIOR

National Park Service

National Register of Historic Places; Notification of Pending Nominations and Related Actions

Nominations for the following properties being considered for listing or related actions in the National Register were received by the National Park Service before February 18, 2005. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by March 17, 2006.

John W. Roberts,
Acting Chief, National Register/National Historic Landmarks Program.

Alabama

Baldwin County

Fairhope Downtown Historic District, Parts of 10 blks in downtown Fairhope, Fairhope, 06000186

Barbour County

Woodlane Plantation, AL 431 S, Eufaula, 06000183

De Kalb County

Collinsville Historic District, Valley Ave., Main St. and Grand Ave., Collinsville, 06000181

Jefferson County

Cahaba Homestead Village Historic District, Approx. bet I-59 and AL 11, Trussville, 06000187

Madison County

Madison Station Historic District, Roughly bounded by Wall Triana Hwy., Mill Rd., Church St., Maple St., Martin St., and Bradley St., Madison, 06000185

Shelby County

Calera Downtown Historic District, Jct. of US 31 and AL 25, Calera, 06000188

Rock House, Old, 1 mi. SE of Harpersville at the end of farm lane on N side of US 280, Harpersville, 06000182

California

Santa Clara County

Hutton, Warner, House, 13777a Fruitvale Ave., Saratoga, 06000189

District of Columbia

District of Columbia

Mount Vernon Triangle Historic District, (Mount Vernon Triangle MPS) Approx. 5th St., NW., K St., NW., 4th St., NW., and Massachusetts Ave., Washington, 06000191

Wiley, Emily, House, (Mount Vernon Triangle MPS) 902 3rd St., NW., Washington, 06000192

Florida

Hillsborough County

Guida, George, Sr., House, 1516 N. Renfrew Ave., Tampa, 06000193

Michigan

Alpena County

Alpena Light, (Light Stations of the United States MPS) End of N breakwater at Thunder Bay River mouth, 150 ft. from shore, Alpena, 06000197

Mississippi

Kemper County

Porterville General Store, Old MS 45, Porterville, 06000195

Lee County

Highland Circle Historic District, Highland Circle neighborhood inc. parts of N. Madison St., Highland Circle, Oak Grove Rd. and W. Jackson St., Tupelo, 06000196

Tunica County

Tunica Historic District, Roughly bounded by Kestevan Alley, Mockingbird St., Cummins Ave., and the Tunica School, Tunica, 06000194

Ohio

Cuyahoga County

Clinton Apartments, 3607 Clinton Ave., Cleveland, 06000199

Hancock County

Bigelow, Charles H., House, 2816 N. Main St., Findlay, 06000200

Huron County

Tremont House, 101-103 E. Main St., Bellevue, 06000201

Lucas County

Ohio Theatre, 3114 Lagrange St., Toledo, 06000198

Stark County

Upper Downtown Canton Historic District, Market Ave., bet. Sixth St. N and 2nd St. S., E to W variable Boundary, Canton, 06000202

Tennessee

Lewis County

Lewis County Courthouse, 110 N. Park St., Hohenwald, 06000203

Wisconsin

Ashland County

Glidden State Bank, 216 First St., Jacobs, 06000206

La Crosse County

Maria Angelorum Chapel, 901 Franciscan Way, La Crosse, 06000204

Milwaukee County

Greenfield School, 8405 W. National Ave., West Allis, 06000207

Oconto County

Arndt's Pensaukee Sawmill Complex, Address Restricted, Oconto, 06000205

[FR Doc. E6-2998 Filed 3-1-06; 8:45 am]

BILLING CODE 4312-51-P